DEPARTMENT OF TRANSPORTATION

Federal Aviation Administration

14 CFR Part 71

[Docket No. FAA-2019-1023; Airspace Docket No. 19-ANM-94]

RIN 2120-AA66

Proposed Establishment of Class E Airspace; Port Angeles, WA

AGENCY: Federal Aviation Administration (FAA), DOT.

ACTION: Notice of proposed rulemaking (NPRM).

SUMMARY: This action proposes to establish a Class E surface area, Class E airspace as an extension to the surface area and Class E airspace extending upward from 700 feet above the surface at Port Angeles CGAS, Port Angeles, WA. Following a review of the airspace serving Port Angeles CGAS and William R Fairchild International Airport, the FAA found it necessary to provide Port Angeles CGAS with airspace independent of the airspace for William R Fairchild Airport. A microclimate at Port Angeles CGAS causes weather patterns to vary from the weather at William R Fairchild Airport. The difference in weather between the two locations can negatively impact operations at Port Angeles CGAS, impeding training and mission accomplishment. This action would establish new airspace for the safety and management of Instrument Flight Rules (IFR) operations at Port Angeles CGAS, Port Angeles, WA.

DATES: Comments must be received on or before April 10, 2020.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2019-1023; Airspace Docket No. 19-ANM-94, at the beginning of your comments. You may also submit comments through the internet at https://www.regulations.gov.

FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal_register/cfr/ibr_locations.html.

FOR FURTHER INFORMATION CONTACT: Richard Roberts, Federal Aviation Administration, Operations Support Group, Western Service Center, 2200 S 216th Street, Des Moines, WA 98198-6547; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would establish Class E airspace at Port Angeles CGAS, Port Angeles, WA, in support of IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (Docket No. FAA-2019-1023; Airspace Docket No. 19-ANM-94) and be submitted in triplicate to DOT Docket Operations (see ADDRESSES section for address and phone number). You may also submit comments through the internet at https://www.regulations.gov.

Persons wishing the FAA to acknowledge receipt of their comments on this notice must submit with those comments a self-addressed, stamped postcard on which the following statement is made: “Comments to Docket No. FAA-2019-1023; Airspace Docket No. 19-ANM-94.” The postcard will be date/time stamped and returned to the commenter.

All communications received on or before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspaceamendments/.

You may review the public docket containing the proposal, any comments received, and any final disposition in person in the Dockets Office (see the ADDRESSES section for the address and phone number) between 9:00 a.m. and 5:00 p.m., Monday through Friday, except federal holidays. An informal docket may also be examined between 8:00 a.m. and 4:30 p.m., Monday through Friday, except federal holidays, at the Northwest Mountain Regional Office of the Federal Aviation Administration, Air Traffic Organization, Western Service Center, Operations Support Group, 2200 S 216th St., Des Moines, WA 98198-6547.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Proposal

The FAA is proposing an amendment to Title 14 Code of Federal Regulations (14 CFR) part 71 by establishing a Class E surface area, Class E airspace as an extension to the surface area and Class E airspace extending upward from 700 feet above ground level at Port Angeles CGAS, Port Angeles, WA.

This action is being submitted coincidental with FAA proposal, Docket No. FAA-2019-1022; 19-ANM-81 to modify Class E airspace for William R Fairchild International Airport, Port Angeles, WA. That action would modify the airspace at William R Fairchild International Airport, Port Angeles, WA, to only that needed for their operations and remove the airspace that was previously used to support operations at Port Angeles CGAS.

This action would provide the airspace needed for Port Angeles CGAS operations to facilitate training and mission accomplishment.

The Class E surface area would be established to within 1.5 miles of the airport. A Class E extension to the surface area would be established 2.1 miles both sides of the 80° bearing from the Port Angeles CGAS, extending from William R Fairchild surface area 4.1-mile radius to 5.6 miles east of the Port Angeles CGAS. This area would provide airspace for the Copter NDB 242 approach, as aircraft descend through 1000 feet AGL.

The Class E airspace extending upward from 700 feet AGL would be established to 3 miles south and 7.5 miles north of the 80° bearing from the Port Angeles CGAS Airport to 11 miles east, excluding that portion in Canadian airspace.

This area would provide airspace for the Copter 242 approach, as aircraft descend through 1500 feet. This airspace would support IFR operations at Port Angeles CGAS, Port Angeles, WA.

Class E airspace designations are published in paragraph 6002, 6004 and 6005 of FAA Order 7400.11D, dated August 8, 2019 and effective September 15, 2019, which is incorporated by reference in 14 CFR 71.1. The Class E airspace designation listed in this document will be published subsequently in the Order. FAA Order 7400.11, Airspace Designations and Reporting Points, is published yearly and effective on September 15.

Regulatory Notices and Analyses

The FAA has determined that this proposed regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Given this is a routine matter that will only affect air traffic procedures and air navigation, it is certified that this proposed rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Designated as Surface Areas.

* * * * *

AWP WA E2 Port Angeles, WA [NEW]

Port Angeles CGAS

(Lat. 48°08′29″ N, long. 123°24′50″ W)

That airspace extending upward from the surface to and including 2500 feet within a 1.5-mile radius of Port Angeles CGAS, Port Angeles, WA.

Paragraph 6004 Class E Airspace Areas Designated as an Extension to a Class D or Class E Surface Area.

* * * * *

AWP WA E4 Port Angeles, WA [NEW]

Port Angeles CGAS, WA

(Lat. 48°08′29″ N, long. 123°24′50″ W)

That airspace extending upward from the surface within 2.1 miles both sides of the Port Angeles CGAS 80° bearing extending from William R Fairchild surface area 4.1-mile radius to 5.6 miles east of the Port Angeles CGAS airport.

Paragraph 6005 Class E Airspace Areas Extending Upward From 700 Feet or More Above the Surface of the Earth.

* * * * *

AWP WA E5 Port Angeles, WA [NEW]

Port Angeles CGAS, WA

(Lat. 48°08′29″ N, long. 123°24′50″ W)

The Class E airspace extending upward from 700 feet 3 miles south and 7.5 miles north of the of Port Angeles CGAS Airport 80° bearing extending from the William R Fairchild 4.1-mile radius to 11 miles east, excluding that portion in Canadian airspace.

Issued in Seattle, Washington, on February 19, 2020.
Stephanie C. Harris,
Manager (Acting), Operations Support Group, Western Service Center.

[FR Doc. 2020-03580 Filed 2-24-20; 8:45 am]

BILLING CODE 4910-13-P